DEPARTMENT OF TRANSPORTATION

Maritime Administration

[Docket No. DOT-MARAD-2014-0156]

Request for Comments on a New Information Collection

AGENCY: Maritime Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on September 23, 2014 (79 FR 56849).

DATES: Comments must be submitted on or before January 16, 2015.

FOR FURTHER INFORMATION CONTACT: Nuns Jain, Program Excellence & Quality Assurance Group (MAR-600.6), Maritime Administration, U.S. Department of Transportation, 7737 Hampton Boulevard, Building 19, Suite 300, Norfolk, VA 23505, (757) 322-5801 or Email: nuns.jain@dot.gov.

SUPPLEMENTARY INFORMATION: Title: Quarterly Readiness Reporting of Strategic Seaport Facilities.

OMB Control Number: 2133—NEW.

Type of Request: New Information Collection.

Abstract: Pursuant to the Defense Production Act of 1950, as amended (Pub. L. 111-67), EO 13603, E.O. 12656 and 46 CFR part 340, MARAD works with the DoD to ensure national defense preparedness. Accordingly, MARAD issues a pre-emergency Port Planning Order (PPO) to each Department of Defense (DoD) designated strategic commercial seaport in order to provide the DoD port facilities in support of military deployments during national emergencies. The proposed collection of quarterly information is necessary to validate each port's ability to provide the PPO delineated facilities to the DoD within the PPO delineated time frame. In a February 2, 2014 report entitled STRATEGIC SEAPORTS: Opportunities Exist to Improve Interagency Coordination, Readiness Reporting, and Port Preparedness, the Government Accounting Office (GAO) recommended that MARAD collect DoD required readiness data from the strategic commercial ports. This information will be used by MARAD to assist DoD in establishing overall contingency plans necessary to meet national emergency preparedness requirements.

Affected Public: Strategic Commercial Seaports with MARAD Port Planning Orders.

Estimated Number of Respondents: 16.

Estimated Number of Responses: 64.

Annual Estimated Total Annual Burden Hours: 64.

Frequency of Collection: Quarterly.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Dated: December 11, 2014.
Julie P. Agarwal,
Secretary, Maritime Administration.

[FR Doc. 2014-29468 Filed 12-16-14; 8:45 am]

BILLING CODE 4910-81-P